DEPARTMENT OF JUSTICE

Notice of Lodging of Consent Decree Under the Resource Conservation and Recovery Act

Notice is hereby given that on May 17, 2010, a proposed consent decree in United States v. Tanana Oil Corp., et al., Civil Action No. 05-2540, was lodged with the United States District Court for the District of Maryland.

In this action the United States asked the court to order Tri-Angle Holding Company to clean up petroleum products that the United States alleges leaked from underground storage tanks owned or operated by the defendants at Tanana Oil Station #409, formerly located at 7526 North Point Road, Edgemere, Maryland. The United States also sought civil penalties from the defendants for violating regulations regarding underground storage tanks and for failing to comply with an administrative order requiring defendants to clean up the leaked petroleum products. The United States obtained default judgment on April 16, 2006, ordering Tri-Angle Holding Company to clean up the petroleum contamination and ordering the defendants to pay $760,000 in civil penalties. If approved, the consent decree would replace the default judgment and would require two individuals, not previously named as defendants in this matter, to perform the cleanup work in accordance with a corrective action plan attached to the consent decree and to pay a civil penalty of $69,000 in two installments.

The Department of Justice will receive for a period of thirty (30) days from the date of this publication comments relating to the consent decree. Comments should be addressed to the Assistant Attorney General, Environment and Natural Resources Division, and either e-mailed to pubcomment-ees.enrd@usdoj.gov or mailed to P.O. Box 7611, U.S. Department of Justice, Washington, DC 20044-7611, and should refer to United States v. Tanana Oil Company, D.J. Ref. 90-7-1-08585/1.

The consent decree may be examined at U.S. EPA Region 3, 1650 Arch Street, Philadelphia, Pennsylvania. During the public comment period, the consent decree, may also be examined on the following Department of Justice Web site, http://www.usdoj.gov/enrd/Consent_Decrees.html. A copy of the consent decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $13.25 (25 cents per page reproduction cost) payable to the U.S. Treasury or, if by e-mail or fax, forward a check in that amount to the Consent Decree Library at the stated address.

Maureen Katz,
Assistant Chief, Environmental Enforcement Section, Environment and Natural Resources Division.

[FR Doc. 2010-12318 Filed 5-21-10; 8:45 am]

BILLING CODE 4410-15-P